DEPARTMENT OF COMMERCE

International Trade Administration

[A-428-037]

Drycleaning Machinery From Germany; Amended Final Results of Antidumping Duty Administrative Review in Accordance With Final Court Decision

AGENCY: Import Administration, International Trade Administration, U.S. Department of Commerce.

ACTION: Notice of amended final results of antidumping duty administrative review in accordance with final court decision.

SUMMARY:

On June 3, 1997, the U.S. Court of International Trade (CIT) affirmed the remand determination of the Department of Commerce arising from the antidumping duty finding on drycleaning machinery from Germany. See Boewe Reinigungs undWaschereitchnik GmbH and Boewe Passat Drycleaning & Laundry Machinery Corp. v. United States, Slip Op. 97-72 (CIT 1997). After recalculation of the dumping margin for Boewe Reinigungstechnik, GmbH, and Boewe Systems & Machinery, Inc., we are amending the final results of the review in this matter and will instruct the U.S. Customs Service to liquidate entries subject to these amended final results. These results do not affect cash deposits. This order was revoked, effective November 1, 1995. See Notice of Revocation of Antidumping Finding, 60 FR 65635.

EFFECTIVE DATE: April 26, 2002.

FOR FURTHER INFORMATION CONTACT: Jack K. Dulberger or Sheila Forbes,AD/CVD Enforcement, Group II, Office 4, Import Administration, International Trade Administration, U.S. Department of Commerce, 14th Street and Constitution Avenue, N.W., Washington, D.C. 20230; telephone: (202) 482-5505 and 482-4697, respectively.

SUPPLEMENTARY INFORMATION:

Background

On December 26, 1991, the Department published in the Federal Register a notice of final results of the administrative review of the antidumping finding on drycleaning machinery from Germany. See Notice of Final Results of Antidumping Duty Administrative Review, 56 FR 66838 (Final Results). This review covered the period November 1, 1989 through October 31, 1990. Boewe Reinigungstechnik, GmbH and Boewe Systems & Machinery, Inc. (collectively, “Boewe”), a manufacturer/exporter reviewed in this case, subsequently appealed the Final Results to the CIT on grounds that the Department erred in rejecting as untimely its information for certain expense adjustments, which Boewe claimed supported a circumstance-of-sale or level of trade (LOT) adjustment to its foreign market value (FMV). On May 7, 1993, the CIT, in Boewe Reinigungs undWaschereitchnik GmbH v. United States, 17 CIT 335 (1993) (Boewe I), remanded the Final Results to the Department, directing that it accept this information as timely and reconsider Boewe's claim for a circumstance-of-sale or LOT adjustment. (See Boewe I).

The Department, in its Final Results of Redetermination, August 5, 1993, (1993 Remand) allowed the previously-rejected data, but rejected Boewe's claim for a circumstance-of-sale or LOT adjustment. Additionally, in the 1993 Remand, the Department amended Boewe's dumping margin calculation to reflect corrections to certain of its United States sales transactions. (Note: Boewe alleged this ministerial error after the Department had published the Final Results). As a result, Boewe's margin decreased from 0.64 percent to 0.59 percent. See 1993 Remand at 13, 14. However, since this case remained subject to litigation, the Department did not issue amended final results at that time. See 1993 Remand at 13.

On May 8, 1996, the CIT sustained in part and remanded in part the Department's 1993 Remand. See Boewe Reinigungs undWaschereitchnik GmbH and Boewe Passat Drycleaning & Laundry Machinery Corp. v. United States, 926 F. Supp. 1138 (CIT 1996) (Boewe II). In its opinion, the CIT sustained the Department's correction of the ministerial error and several other aspects of the first remand but remanded the case again to the Department in order for the Department to reconsider the LOT adjustments.

On July 24, 1996, the Department issued a second remand redetermination for the final results of the 1989-1990 administrative review of the antidumping finding on drycleaning machinery from Germany. In this remand redetermination, the Department provided the CIT with additional explanation as to why it was denying Boewe's LOT adjustments. On December 11, 1996, the CIT affirmed much of the Department's second remand redetermination, but remanded the remaining LOT issues back to the Department. See Boewe Reinigungs undWaschereitchnik GmbH and Boewe Passat Drycleaning & Laundry Machinery Corp. v. United States 951 F. Supp. 231 (CIT 1996)(Boewe III). On January 14, 1997, the Department issued its third remand redetermination for the 1989-1990 administrative review of drycleaning machinery from Germany. In this remand redetermination, the Department provided the CIT with additional explanation as to why it was denying Boewe's LOT adjustments.

On June 3, 1997, the CIT affirmed the Department's third remand redetermination in its entirety. See Boewe Reinigungs undWaschereitchnik GmbH and Boewe Passat Drycleaning & Laundry Machinery Corp. v. United States, Slip Op. 97-72 (CIT 1997)(Boewe IV). This decision made no change to the earlier recalculated margin and was not appealed. We are therefore publishing our amended final results for the review period November 1, 1989 through October 31, 1990.

Amended Final Results of Review

As a result of the remand redeterminations, the revised weighted-average margin during the period November 1, 1989 through October 31, 1990, for Boewe is as follows:

Manufacturer/exporter | Margin (Percent)
Boewe | 0.59

Accordingly, the Department will determine, and the U.S. Customs Service will assess, antidumping duties on all entries of subject merchandise from Boewe in accordance with these amended final results. The Department will issue appraisement instructions directly to Customs.

This notice is issued and published in accordance with section 777(i) of the Tariff Act of 1930 and 19 CFR 351.221(b)(5)(2002).

April 19, 2002
Bernard T. Carreau,
Acting Assistant Secretary for Import Administration.

[FR Doc. 02-10466 Filed 4-25-02; 8:45 am]

BILLING CODE 3510-DS-S